SECURITIES AND EXCHANGE COMMISSION

[Release No. 34-79802; File No. SR-NYSEArca-2016-96]

Self-Regulatory Organizations; NYSE Arca, Inc.; Notice of Designation of a Longer Period for Commission Action on Proceedings To Determine Whether To Approve or Disapprove a Proposed Rule Change, as Modified by Amendment No. 2 Thereto, To Amend NYSE Arca Equities Rule 8.700 and To List and Trade Shares of the Managed Emerging Markets Trust Under Proposed Amended NYSE Arca Equities Rule 8.700

January 13, 2017.

On July 1, 2016, NYSE Arca, Inc. (“Exchange”) filed with the Securities and Exchange Commission (“Commission”), pursuant to Section 19(b)(1) of the Securities Exchange Act of 1934 (“Act”) ¹ and Rule 19b-4 thereunder,² a proposed rule change to amend NYSE Arca Equities Rule 8.700 and to list and trade shares of the Managed Emerging Markets Trust under proposed amended NYSE Arca Equities Rule 8.700. The proposed rule change was published for comment in the Federal Register on July 21, 2016.³ On August 30, 2016, pursuant to Section 19(b)(2) of the Act,⁴ the Commission designated a longer period within which to approve the proposed rule change, disapprove the proposed rule change, or institute proceedings to determine whether to disapprove the proposed rule change.⁵ On October 18, 2016, the Commission instituted proceedings to determine whether to approve or disapprove the proposed rule change.⁶ On November 4, 2016, the Exchange filed Amendment No. 1 to the proposed rule change, which replaced and superseded the original filing in its entirety.⁷ On January 9, 2017, the Exchange filed Amendment No. 2 to the proposed rule change, which again replaced and superseded the original filing in its entirety.⁸ The Commission received no comments on the proposed rule change.

¹ 15 U.S.C. 78s(b)(1).

² 17 CFR 240.19b-4.

³ See Securities Exchange Act Release No. 78345 (July 15, 2016), 81 FR 47447.

⁴ 15 U.S.C. 78s(b)(2).

⁵ See Securities Exchange Act Release No. 78727, 81 FR 61268 (September 6, 2016).

⁶ See Securities Exchange Act Release No. 79111, 81 FR 73179 (October 24, 2016).

⁷ Amendment No. 1 is available at: https://www.sec.gov/comments/sr-nysearca-2016-96/nysearca201696-1.pdf.

⁸ Amendment No. 2 is available at: https://www.sec.gov/comments/sr-nysearca-2016-96/nysearca201696-1473646-130472.pdf.

Section 19(b)(2) of the Act ⁹ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on July 21, 2016. January 17, 2017 is 180 days from that date, and March 18, 2017 is 240 days from that date.

⁹ 15 U.S.C. 78s(b)(2).

The Commission finds it appropriate to designate a longer period within which to issue an order approving or disapproving the proposed rule change so that it has sufficient time to consider this proposed rule change. Accordingly, the Commission, pursuant to Section 19(b)(2) of the Act,¹⁰ designates March 18, 2017 as the date by which the Commission shall either approve or disapprove the proposed rule change (File No. SR-NYSEArca-2016-96), as modified by Amendment No. 2.

¹⁰ Id.

For the Commission, by the Division of Trading and Markets, pursuant to delegated authority.¹¹
¹¹ 17 CFR 200.30-3(a)(57).
Eduardo A. Aleman,
Assistant Secretary.

[FR Doc. 2017-01301 Filed 1-19-17; 8:45 am]

BILLING CODE 8011-01-P